FEDERAL COMMUNICATIONS COMMISSION

[OMB 3060-XXXX; FR ID 274218]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.”

The Commission may not conduct or sponsor a collection of information unless it displays a currently valid Office of Management and Budget (OMB) control number. No person shall be subject to any penalty for failing to comply with a collection of information subject to the PRA that does not display a valid OMB control number.

DATES: Written comments and recommendations for the proposed information collection should be submitted on or before February 20, 2025.

ADDRESSES: Comments should be sent to www.reginfo.gov/public/do/PRAMain. Find this particular information collection by selecting “Currently under 30-day Review—Open for Public comments” or by using the search function. Your comment must be submitted into www.reginfo.gov per the above instructions for it to be considered. In addition to submitting in www.reginfo.gov also send a copy of your comment on the proposed information collection to Nicole Ongele, FCC, via email to PRA@fcc.gov and to Nicole.Ongele@fcc.gov. Include in the comments the OMB control number as shown in the SUPPLEMENTARY INFORMATION below.

FOR FURTHER INFORMATION CONTACT: For additional information or copies of the information collection, contact Nicole Ongele at (202) 418-2991. To view a copy of this information collection request (ICR) submitted to OMB: (1) go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-XXXX.

Title: Facilitating Implementation of Next Generation 911 Services (NG911).

Form Number: N/A.

Type of Review: New information collection.

Respondents: State, Local, or Tribal Government, and business or other for-profit entities.

Number of Respondents and Responses: 1,541 respondents; 2,837 responses.

Estimated Time per Response: 2—40 hours.

Frequency of Response: On occasion reporting requirement; third party disclosure requirement.

Obligation to Respond: Required to obtain or retain benefits. Statutory authority for this collection is contained in Sections 1, 2, 4(i), 201, 214, 222, 225, 251(e), 301, 303, 316, and 332 of the Communications Act of 1934, as amended, 47 U.S.C. 151, 152, 154(i), 201, 214, 222, 225, 251(e), 301, 303, 316, 332, and the Wireless Communications and Public Safety Act of 1999, Public Law 106-81, as amended, 47 U.S.C. 615 note, 615, 615a, 615a-1, 615b; and Section 106 of the Twenty-First Century Communications and Video Accessibility Act of 2010, Public Law 111-260, 47 U.S.C. 615c.

Total Annual Burden: 9,932 hours.

Total Annual Cost: $902,000.

Needs and Uses: In a Report and Order released on July 19, 2024, FCC 24-78, published at 89 FR 78066, September 24, 2024, the Commission adopted rules to advance the nationwide transition to Next Generation 911 (NG911).¹ These rules require wireline providers, Commercial Mobile Radio Service (CMRS) providers, covered text providers, providers of interconnected Voice over internet Protocol (VoIP) services, and providers of internet-based Telecommunications Relay Service (internet-based TRS) (collectively, OSPs) to take actions to start or continue the transition to NG911 in coordination with 911 Authorities. Associated with these rules, the Commission seeks OMB approval for notification and recordkeeping requirements applicable to 911 Authorities and OSPs, as described in more detail herein. Specifically, the rules require OSPs to take steps in two phases to complete all translation and routing to deliver 911 traffic, including associated routing and location information, in the requested IP-based format. These requirements are intended to correspond to and complement the readiness phases for 911 Authorities so that once a 911 Authority is ready to receive NG911 traffic in a specific IP format, the OSP will be required to deliver it in that format. In Phase 1, OSPs will be required to deliver 911 traffic in a basic Session Initiation Protocol (SIP) format to NG911 Delivery Points designated by the 911 Authority in the 911 Authority's state or territory, and complete connectivity testing. In Phase 2, OSPs will be required to deliver 911 traffic in SIP format that complies with NG911 commonly accepted standards to NG911 Delivery Points designated by the 911 Authority in the 911 Authority's state or territory, install and put into operation all necessary equipment, software, and other infrastructure, and complete connectivity testing. For each phase, OSPs must meet certain implementation deadlines. OSPs must bear the financial responsibility for such transmission, including costs associated with completing any needed TDM-to-IP translation and the costs of delivering associated routing and location information in the requested IP-based format.

¹ The Report and Order was corrected via two errata released on September 5, 2024, and October 1, 2024.

This rulemaking necessitates three information collections. First, under 47 CFR 9.31(a) and (b), 911 Authorities that wish to make Phase 1 or Phase 2 valid requests for delivery of 911 traffic in IP-based formats must provide notification containing certain certifications and information to either serving OPSs or to a registry to be made available by the Commission.

Second, in 47 CFR 9.31(c), OSPs that wish to challenge 911 Authorities' valid requests may submit a petition to the Public Safety and Homeland Security Bureau (PSHSB) within 60 days of the receipt of a Phase 1 or 2 request from a 911 Authority. Such challenge petitions must meet applicable procedural requirements and must be in the form of an affidavit that contains certain supporting information. The affected 911 Authority may file an opposition to the OSP's petition, and parties may file replies to oppositions. Filing parties must serve a copy of the document on the other party at the time of filing.

Third, in 47 CFR 9.34, 911 Authorities and OSPs may enter into voluntary mutual agreements that establish terms different from the Commission's rules. Within 30 days of the date when any such agreement is executed, or subsequently modified or terminated, the participating OSP must notify the Commission and provide information about alternative terms and transition deadlines.

OSPs will use the information collected pursuant to Section 9.31(a) and (b) that is submitted by 911 Authorities to trigger their NG911 transition obligations described in Section 9.29(a) and (b), respectively, and their NG911 implementation deadlines set forth in Section 9.30(a) and (b), respectively. OSPs will receive notifications either directly from 911 Authorities, or from a registry where 911 Authorities may submit notifications. To the extent that 911 Authorities submit their valid request notifications in a registry made available by the Commission pursuant to Section 9.31(a)(5) and (b)(6), PSHSB will use the information collected pursuant to Section 9.31(a) and (b) to monitor the progress of valid requests at each phase of the NG911 transition and to keep track of implementation deadlines associated with each valid request.

PSHSB will use the information collected pursuant to Section 9.31 that is submitted by the OSPs in their petitions challenging 911 Authorities' valid requests, as well as information submitted by 911 Authorities who file oppositions to such petitions and information submitted by OSPs who file replies to such oppositions, to determine whether to pause the implementation deadline for that OSP, affirm the request of the 911 Authority as valid, or take other action as necessary. The requirements should simplify the enforcement and complaint process for both OSPs and 911 Authorities regarding OSPs' implementation deadlines.

In addition, the information collected pursuant to Section 9.34(a) and (b) provides the Commission with awareness of any changes to the obligations of OSPs under the rules.

Federal Communications Commission.
Marlene Dortch,
Secretary, Office of the Secretary.

[FR Doc. 2025-01387 Filed 1-17-25; 8:45 am]

BILLING CODE 6712-01-P